DEPARTMENT OF COMMERCE

Foreign-Trade Zones Board

[Docket 4-2010]

Foreign-Trade Zone 113—Ellis County, Texas, Application for Reorganization under Alternative Site Framework, Extension of Comment Period

The comment period for the application to reorganize FTZ 113 under the alternative site framework, submitted by the Ellis County Trade Zone Corporation (75 FR 3705, 1/22/2010), is being extended to April 29, 2010 to allow interested parties additional time in which to comment. Rebuttal comments may be submitted during the subsequent 15-day period until May 14, 2010. Submissions (original and one electronic copy) shall be addressed to the Board's Executive Secretary at: Foreign-Trade Zones Board, U.S. Department of Commerce, Room 2111, 1401 Constitution Avenue NW, Washington, DC 20230.

For further information, contact Camille Evans at Camille.Evans@trade.gov or (202) 482-2350.

Dated: March 25, 2010.
Andrew McGilvray,
Executive Secretary.

[FR Doc. 2010-7514 Filed 4-2-10; 8:45 am]

BILLING CODE 3510-DS-S